DEPARTMENT OF DEFENSE

Office of the Secretary of Defense; Meeting of the Board of Regents of the Uniformed Services University of the Health Sciences

AGENCY: Unformed Services University of the Health Sciences (USU), DoD.

ACTION: Quarterly meeting notice.

SUMMARY: The actions that will take place include the approval of the minutes from the Board of Regents meeting held February 7, 2006, acceptance of department reports, and the awarding of post-baccalaureate degrees as follows: Doctor of Medicine, Masters of Science in Nursing, Ph.D. in Nursing Science, and masters and doctoral degrees in the biomedical sciences and public health. The President, USU; Dean, USU School of Medicine; Dean, USU Graduate School of Nursing; and Director, Armed Forces Radiobiology Research Institute, will also present reports. These actions are necessary for the University to remain an accredited medical school and to pursue our mission, which is to provide trained health care personnel to the uniformed services.

DATES: May 19, 2006, 8 a.m. to 4 p.m.

ADDRESSES: Uniformed Services University of the Health Sciences, Board of Regents Conference Room (D3001), 4301 Jones Bridge Road, Bethesda, MD 20814-4799.

FOR FURTHER INFORMATION CONTACT: CAPT Jane E. Mead, NC, USN, Executive Secretary, Board of Regents, 301-295-0962.

Dated: April 10, 2006.
L.M. Bynum,
Alternate OSD Federal Register Liaison Officer, DoD.

[FR Doc. 06-3582 Filed 4-13-06; 8:45 am]

BILLING CODE 5001-06-M